NATIONAL FOUNDATION ON THE ARTS AND THE HUMANITIES

Sunshine Act; Meeting of the National Museum Services Board

AGENCY: Institute of Museum and Library Services, NFAH.

ACTION: Notice of meeting.

SUMMARY: This notice sets forth the agenda of a forthcoming meeting of the National Museum Services Board. This notice also describes the function of the board. Notice of this meeting is required under the Sunshine in Government Act and regulations of the Institute of Museum and Library Services, 45 CFR 1180.84.

Time and Date: 9 a.m.-4:30 p.m. Tuesday, September 16, 2003.

Status: Open.

ADDRESSES: Omni Shoreham Hotel, Palladian Room, 2500 Calvert Street, NW., (202) 234-0700.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Pub. L. 94-462. The Board has responsibility for the general policies with respect to the powers, duties, and authorities vested in the Institute under the Museum Services Act.

The meeting on Tuesday, September 16, 2003 will be open to the public. If you need special accommodations due to a disability, please contact: Institute of Museum and Library Services, 1100 Pennsylvania Avenue, NW., Washington, DC 20506—(202) 606-8536—TDD (202) 606-8636 at least seven (7) days prior to the meeting date.

Agenda—88th Meeting of The National Museum Services Board at Omni Shoreham Hotel, Palladian Room, 2500 Calvert Street, NW

Tuesday, September 16, 2003

8:30 a.m.-9 a.m.—Continental Breakfast.

9 a.m.-12 p.m.—

I. Chairperson's Welcome.

II. Approval of Minutes from the 87th NMSB Meeting.

III. Director's Welcome and Remarks.

IV. Staff Updates.

15 Minute Break

V. Board Discussion on the Museum and Library Services Act: General Changes, Board Governance and Structure.

VI. Closing Remarks.

12-12:30 p.m.—Break.

1:30 p.m.-4:30 p.m.—Dialogue on Creating and Sustaining a Nation of Learners.

Robert Martin, Ph.D., Director, Institute of Museum and Library Services, John Falk, Ph.D., Director, Institute of Learning Innovation, Robert Coonrod, President, Corporation for Public Broadcasting, Andrea Camp, Senior Fellow, Civil Society Institute (invited).

Dated: August 29, 2003.
Teresa LaHaie,
Administrative Officer, National Foundation on the Arts and Humanities, Institute of Museum and Library Services.

[FR Doc. 03-23207 Filed 9-8-03; 3:53 pm]

BILLING CODE 7036-01-M